DEPARTMENT OF THE INTERIOR

Bureau of Land Management

[AK-040-1430-EQ; AA-081878]

Notice of Realty Action: Non-Competitive FLPMA Lease; Alaska

AGENCY: Bureau of Land Management, Interior.

ACTION: Notice of realty action: lease of public land.

SUMMARY: The following public lands along the Anvik River in western Alaska have been examined and found suitable for non-competitive lease to the State of Alaska Department of Fish and Game (ADF&G) under the provisions of Section 302 of the Federal Land Policy and Management Act (FLPMA) of 1976 and 43 CFR Part 2920. ADF&G proposes to lease the Anvik fish counting station and associated storage and maintenance area for 20 years. The lease is intended to convert a permit to a lease for the continued operation and maintenance of existing facilities.

Seward Meridian, Alaska

T. 31 N., R. 61 W.

NE1/4NE1/4 of Section 34

NW1/4NW1/4 of Section 35

Containing approximately 2 acres.

For a period of 45 days from the date of publication of this notice in the Federal Register, interested parties may submit comments regarding the proposed action to the Anchorage Field Manager.

FOR FURTHER INFORMATION CONTACT: Stuart Hirsh, Anchorage Field Office, 6881 Abbott Loop Road, Anchorage, Alaska 99507, (907) 267-1252.

Dated: July 22, 2002.
June Bailey,
Acting Anchorage Field Manager.

[FR Doc. 02-20338 Filed 8-9-02; 8:45 am]

BILLING CODE 4310-JA-P